DEPARTMENT OF LABOR

Employment and Training Administration

[TA-W-54,330]

Allied Holdings, Inc., Decatur, GA; Dismissal of Application for Reconsideration

Pursuant to 29 CFR 90.18(C) an application for administrative reconsideration was filed with the Director of the Division of Trade Adjustment Assistance for workers at Allied Holdings, Inc., Decatur, Georgia. The application contained no new substantial information which would bear importantly on the Department's determination. Therefore, dismissal of the application was issued.

TA-W-54,330; Allied Holdings, Inc. Decatur, Georgia (July 7, 2004).

Signed at Washington, DC this 9th day of July 2004.
Timothy Sullivan,
Director, Division of Trade Adjustment Assistance.

[FR Doc. 04-16300 Filed 7-16-04; 8:45 am]

BILLING CODE 4510-30-P